DEPARTMENT OF HOUSING AND URBAN DEVELOPMENT

[Docket No. FR-5750-N-12]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief, Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Ms. Connie Lotfi, Air Force Real Property Agency, 143 Billy Mitchell Blvd., San Antonio, TX 78226, (210) 925-3047; ARMY: Ms. Veronica Rines, Office of the Assistant Chief of Staff for Installation Management, Department of Army, Room 5A128, 600 Army Pentagon, Washington, DC 20310, (571) 256-8145; COE: Mr. Scott Whiteford, Army Corps of Engineers, Real Estate, CEMP-CR, 441 G Street NW., Washington, DC 20314; (202) 761-5542; ENERGY: Mr. David Steinau, Department of Energy, Office of Property Management, 1000 Independence Ave. SW., Washington, DC 20585, (202) 287-1503; GSA: Mr. Flavio Peres, General Services Administration, Office of Real Property Utilization and Disposal, 1800 F Street NW., Room 7040, Washington, DC 20405, (202) 501-0084; INTERIOR: Mr. Michael Wright, Acquisition & Property Management, Department of the Interior, 3960 N. 56th Ave. #104, Hollywood, FL 33021; (443) 223-4639; NASA: Mr. Frank T. Bellinger, Facilities Engineering Division, National Aeronautics & Space Administration, Code JX, Washington, DC 20546, (202) 358-1124; NAVY: Mr. Steve Matteo, Department of the Navy, Asset Management Division, Naval Facilities Engineering Command, Washington Navy Yard, 1330 Patterson Ave. SW., Suite 1000, Washington, DC 20374; (202) 685-9426 (These are not toll-free numbers).

Dated: March 13, 2014.
Mark Johnston,
Deputy Assistant Secretary for Special Needs.

TITLE V, FEDERAL SURPLUS PROPERTY PROGRAM, FEDERAL REGISTER REPORT FOR 03/21/2014

Suitable/Available Properties

Building

Alaska

9 Buildings

JBER-E

Anchorage AK 99506

Landholding Agency: Air Force

Property Number: 18201240030

Status: Unutilized

Directions: 5374, 59122, 59348,76520,16519,16521,9570,7179,8197

Comments: off-site removal only; sf. varies; moderate conditions; restricted area; contact AF for more info. on a specific property & accessibility/removal requirements

4 Buildings

JBER

JBER AK 99506

Landholding Agency: Air Force

Property Number: 18201310014

Status: Unutilized

Directions: 10449, 27369, 33855, 35750

Comments: off-site removal only; sf. varies; moderate conditions; restricted area; contact AF for more info. on a specific property & accessibility/removal requirements

Building 6260

Arctic Warrior Dr.

JBER AK 99506

Landholding Agency: Air Force

Property Number: 18201310015

Status: Unutilized

Comments: off-site removal only; 75,720 sf.; Admin./Storage; moderate conditions; restricted area; contact AF for info. on accessibility/removal requirements

3 Buildings

Gibson Ave.

JBER AK 99506

Landholding Agency: Air Force

Property Number: 18201310016

Status: Unutilized

Directions: 6252, 6257, 7263

Comments: off-site removal only; sf. varies; storage; moderate conditions; restricted area; contact AF for more info. requirements

2 Buildings

Industrial Ave.

Eielson AFB AK 99702

Landholding Agency: Air Force

Property Number: 18201310030

Status: Unutilized

Directions: 6213, 6214

Comments: off-site removal only; sf. varies; major repairs needed; contact AF for more info. on a specific property & accessibility/removal requirements

Building 400

Main Street

King Salmon Airport AK

Landholding Agency: Air Force

Property Number: 18201320079

Status: Unutilized

Comments: 1,408 sf.; storage; 29 yrs. old; moderate conditions; periodic flooding (next to Naknek River)

Building 715

Fuel Lane

King Salmon Airport AK

Landholding Agency: Air Force

Property Number: 18201320082

Status: Unutilized

Comments: 256 sf.; fuel building; 24+ months vacant; deteriorated; contamination

Building 720

Fuel Lane

King Salmon Airport AK

Landholding Agency: Air Force

Property Number: 18201320083

Status: Unutilized

Comments: 285 sf.; fuel building; 24+ months vacant; deteriorated; periodic flooding (next to Naknek River)

14 Buildings

Seward Recreation Camp

Seward AK 99664

Landholding Agency: Air Force

Property Number: 18201330010

Status: Excess

Directions: 100,101,104,300,301,303,302,304,305,306,307,308,309,310

Comments: off-site removal only; sf. varies; 9+ months vacant; moderated conditions; contact Air Force for more info. on a specific property and removal requirements

California

Batterson Kitchen (FS28016)

43060 Hwy 41

Oakhurst CA

Landholding Agency: Agriculture

Property Number: 15201410009

Status: Excess

Comments: 1,047 sq. ft.; 30+ yrs. old; security concerns; contact Agriculture for more information

Building 1028

19338 North St.

Beale CA 95903

Landholding Agency: Air Force

Property Number: 18201240009

Status: Unutilized

Comments: 178 sf.; storage; poor conditions; asbestos & lead; restricted area; contact AF for info. on accessibility requirements

Building 2153

6900 Warren Shingle

Beale AFB CA 95903

Landholding Agency: Air Force

Property Number: 18201240010

Status: Unutilized

Comments: 4,000; very poor conditions; asbestos & lead possible; restricted area; contact AF for info. on accessibility requirements

Former Mather AFB

Former Mather AFB

Rancho Cordova CA 95655

Landholding Agency: Air Force

Property Number: 18201310064

Status: Excess

Directions: includes five bldgs. and land; bldgs. #: 1703, 1705, 1706, 1707, 1708

Comments: previously reported in 1992; total sf.: 191,446; sits on 15 acres; used for: residential; good condition

Colorado

6 Buildings

GJKZ

Fairchild AFB CO 99011

Landholding Agency: Air Force

Property Number: 18201320042

Status: Underutilized

Directions: 1478, 1479, 1480,1482,1483,1484

Comments: off-site removal only; no future AF need; sf. varies; w/inactive military installation; contact AF for removal/accessibility requirements

Florida

Insect Attractant Lab

14683; Site 01

Ft. Lauderdale FL 33314

Landholding Agency: Agriculture

Property Number: 15201410011

Status: Excess

Comments: off-site removal only; 160 sq. ft.; lab/trailer; fair conditions; contact Agriculture for more information

Office Trailer—662900B015

14683; Site 01

Ft. Lauderdale FL 33314

Landholding Agency: Agriculture

Property Number: 15201410012

Status: Excess

Comments: off-site removal only; 720 sq. ft.; office/trailer; 16+ yrs. old; good conditions; contact Agriculture for more information

Building 5002

6801 Hwy 98

Tyndall AFB FL 32403

Landholding Agency: Air Force

Property Number: 18201310010

Status: Unutilized

Comments: 151 sf.; water pump station; 6 months vacant; major repairs; restricted area; contact AF for info. on accessibility requirements

2 Buildings

Cocoa Beach Tracking Annex

Cocoa Beach FL 32931

Landholding Agency: Air Force

Property Number: 18201340040

Status: Unutilized

Directions: 00001 (59 sq. ft.); 00002 (1,030 sq. ft.)

Comments: 56+ yrs. old; 24+ months vacant; launch support; fair conditions; contact Air Force for more info.

Georgia

5 Buildings

Moody Air Force Base

Moody GA 31699

Landholding Agency: Air Force

Property Number: 18201330006

Status: Underutilized

Directions: 1703 (853 sf.); 907 & 908 (9,186 sf. each); 662 & 754 (10,240 sf. each)

Comments: Very poor conditions; 50-70 yrs. old; contamination; secured area; transferee will need escort each time to access property; contact Air Force for more info.

Illinois

6 Buildings

Granite City USARC

Granite City IL 62040

Landholding Agency: Army

Property Number: 21201410040

Status: Unutilized

Directions: 401 (3,194 sq. ft.); 402 (4,913 sq. ft.); 403 (1,474 sq. ft.); 413 (739 sq. ft.); 434 (249 sq. ft.); 416 (1,387 sq. ft.)

Comments: off-site removal only; no future agency need; dissemble may be required; poor conditions; secured area; contact Army on a specific property & accessibility/removal requirements

2 Buildings

Phillip H. Sheridan Reserve Center

Ft. Sheridan IL 60037

Landholding Agency: Army

Property Number: 21201410041

Status: Underutilized

Directions: 564 (4,840 sq. ft.); 5659840 sq. ft.)

Comments: off-site removal only; no future agency need; dissemble may be required; fair conditions; asbestos; secured area; contact Army for more info. on a specific property & accessibility/removal requirements

2 Buildings

Joliet USARC/JTA

Elwood IL 60421

Landholding Agency: Army

Property Number: 21201410042

Status: Unutilized

Directions: JT837 (4,000 sq. ft.); JT834 (4,000 sq. ft.)

Comments: off-site removal only; no future agency need; dissemble may be required; poor conditions; contact Army for more info. on a specific property & accessibility/removal requirements

JT836

Joliet USARC/JTA

Elwood IL 60421

Landholding Agency: Army

Property Number: 21201410043

Status: Unutilized

Comments: off-site removal only; 4,000 sq. ft.; no future agency need; dissemble may be required; 47+ yrs. old; storage; poor conditions; secured area; contact Army re: accessibility/removal requirements

Lake Shelbyville Project

St. Louis District

Shelbyville IL 62565

Landholding Agency: COE

Property Number: 31201410005

Status: Unutilized

Comments: 120 sq. ft.; booth to register campers; 1+ month vacant; extremely poor conditions; contact COE for more information

St. Louis District

Lake Shelbyville Project Office

Shelbyville IL 62565

Landholding Agency: COE

Property Number: 31201410006

Status: Underutilized

Comments: one story comfort station; built 1977; extremely poor conditions; contact COE for more information

Indiana

B708 Air Surveillance Radar

Grissom ARB

Peru IN 46970

Landholding Agency: Air Force

Property Number: 18201410021

Status: Excess

Comments: 1,028 sq. ft.; 47+ yrs. old; moderate conditions; asbestos

Louisiana

Building 117

Naval Air Station Joint Reserve Base

New Orleans LA 70143

Landholding Agency: Air Force

Property Number: 18201330046

Status: Excess

Comments: 3,975 sf.; storage; deteriorated; secured area; background check/pass required; contact Air Force for more info. re.; accessibility requirements

Building 019

Naval Air Station Joint Reserve Base

New Orleans LA 70143

Landholding Agency: Air Force

Property Number: 18201330050

Status: Excess

Comments: 3,038 sq. ft.; storage; deteriorated; secured area; official ID required; contact Air Force for more information

Massachusetts

3 Buildings

Hudson Rd.

Sudbury MA

Landholding Agency: Air Force

Property Number: 18201310026

Status: Excess

Directions: 01, 04, 05

Comments: sf. varies; lab; fair conditions; restricted area; contact AF for info. on accessibility requirements

Massachusetts

7 Buildings

Westover ARB

Chicopee MA 01022

Landholding Agency: Air Force

Property Number: 18201320062

Status: Underutilized

Directions: 7701, 7704, 7706, 7707, 2426, 2765, 7700

Comments: Off-site removal only; no future AF need; sf. varies; adequate to very poor conditions; contamination; restricted area; escort required; contact AF for more info.

Michigan

3 Buildings

Selfridge ANGB

Selfridge MI 48045

Landholding Agency: Air Force

Property Number: 18201220020

Status: Unutilized

Directions: 326, 780, 710

Comments: off-site removal only; sf varies; office/school/barracks; fair conditions; need repairs.

Mississippi

Building 112

CRTC Gulfport

Gulfport MS 39507

Landholding Agency: Air Force

Property Number: 18201330041

Status: Excess

Comments: 90 sf.; ATM bldg.; good conditions; contact Air Force for more info.

Missouri

13 Buildings

Weldon Springs USARC

St. Charles MO 63304

Landholding Agency: Army

Property Number: 21201410044

Status: Unutilized

Directions: 002S9 (490 sq. ft.); G0043 (1,840 sq. ft.); RN001 (7,500 sq. ft.); RN002 (102 sq. ft.); RN003 (450 sq. ft.); RN004 (1 sq. ft.); RN005 (800 sq. ft.); RN006 (320 sq. ft.); RN007 (1,650 sq. ft.); RN008 (266 sq. ft.); RN009 (400 sq. ft.); RN0010 (500 sq. ft.); S0009 (468 sq. ft.)

Comments: off-site removal only; no future agency need; dissemble may be required; poor conditions; secured area; contact Army for on a specific property & accessibility/removal requirements.

New York

Former SSG Robert H. Dietz

US Army Reserve Center

114 Flatbush Ave.

Kingston NY 12401

Landholding Agency: GSA

Property Number: 54201410010

Status: Excess

GSA Number: 1-D-NY-0970-AA

Directions: Landholding Agency: Army; Disposal: GSA; office/admin. bldg. (11,962 sq. ft.); org. maint. bldg. (2,572 sq. ft.); heat/storage bldg. (2,645 sq. ft.)

Comments: 16,909 total sq. ft.; vacant since 2012; fair conditions; access by appt. only; contact GSA for more information.

Oklahoma

Building 267

7576 Sentry Blvd.

Tinker AFB OK 73145

Landholding Agency: Air Force

Property Number: 18201310039

Status: Unutilized

Comments: off-site removal only; 6,892 sf.; vehicle parking shed; fair conditions; restricted area; contact AF for info. on accessibility/removal requirements.

Building 1100

7492 Patrol Road

Tinker AFB OK 73145

Landholding Agency: Air Force

Property Number: 18201320024

Status: Underutilized

Comments: off-site removal only; no future AF need; 5,471 sf.; maint. facility; fair/poor condition; controlled AF installation, contact AF for more info.

Building 944

4600 Air Depot Blvd.

Tinker AFB OK 73145

Landholding Agency: Air Force

Property Number: 18201320026

Status: Underutilized

Comments: off-site removal only; no future AF need; 2,400 sf.; warehouse; fair/poor condition; controlled AF installation; contact AF for info. re: accessibility/removal.

Building 1111

Tinker AFB

Tinker OK 73145

Landholding Agency: Air Force

Property Number: 18201330028

Status: Unutilized

Comments: off-site removal only; no future agency need; 231 sf.; utility bldg.; generally good conditions; secured area; contact Air Force for more info.

2 Buildings

Tinker AFB

Tinker OK 73145

Landholding Agency: Air Force

Property Number: 18201330029

Status: Unutilized

Directions: 1072,901

Comments: off-site removal only; no agency need; poor conditions; secured area; contact Air Force for info. on a specific property & removal requirements.

Building 183

Altus AFB AGGN

Altus OK 73523

Landholding Agency: Air Force

Property Number: 18201340001

Status: Unutilized

Comments: 167 sq. ft.; no bathroom; secured area; escort required each time to access property; asbestos; contact Air Force for more info.

Oregon

Frazier Hazmat Building

1774.009091

07655 00 Umatilla Nat'l Forest Frazier Base

Umatilla OR 97880

Landholding Agency: Agriculture

Property Number: 15201410015

Status: Excess

Comments: off-site removal only; 207 sq. ft.; 19+ yrs. old; roof leaks; contamination; secured area; contact Agriculture for more information.

Dexter Reservoir

Fish Facility

Dexter OR

Landholding Agency: COE

Property Number: 31201410002

Status: Underutilized

Directions: House: 100 sq. ft.; 2 sheds: each 68 sq. ft.

Comments: poor conditions; contact COE for more information.

Puerto Rico

Muniz IAP

200 JoseA (Tony) Santana Ave.

Corolina PR 09879

Landholding Agency: Air Force

Property Number: 18201320069

Status: Unutilized

Comments: 755 sf.; potable water storage & pumphouse; poor conditions; secured area; escort required to access property; contact AF for more info.

South Carolina

2 Building

Shaw AFB

Sumter SC 29152

Landholding Agency: Air Force

Property Number: 18201320054

Status: Unutilized

Directions: 1036, 1826

Comments: off-site removal only; no AF future need; sf. varies; poor conditions; secured area, contact AF for more info.

South Carolina

4 Buildings

Shaw AFB

Sumter SC 29152

Landholding Agency: Air Force

Property Number: 18201320055

Status: Underutilized

Directions: 1027, 1028, 2451, 1034

Comments: off-site removal only; no AF future need; sf. varies; poor conditions; secured area; contact AF for more info.

Building 1036

311 Avocet Street, Shaw AFB

Sumter SC 29152

Landholding Agency: Air Force

Property Number: 18201320086

Status: Unutilized

Comments: off-site removal only; no future agency need; 1,694 sf.; open storage for auto hobby shop; repairs needed; secured area; contact AF for more info.

Building 1826

100 Shaw Dr., Shaw AFB

Sumter SC 29152

Landholding Agency: Air Force

Property Number: 18201320087

Status: Unutilized

Comments: off-site removal only; no future agency need; 984 sf. washrack; repairs needed; secured area; contact AF for more info.

Tennessee

4 Buildings

Fort Campbell

Ft. Campbell TN 42223

Landholding Agency: Army

Property Number: 21201410045

Status: Unutilized

Directions: 6846, 7605, 3109, 3707

Comments: sq. ft. varies; poor conditions; asbestos/lead based paint; secured area; very strict accessibility requirements; contact Army for more info.

Texas

#1023 Compressed Air Plant Building

507 10th Street

Sheppard AFB TX 76311

Landholding Agency: Air Force

Property Number: 18201340044

Status: Underutilized

Comments: 572 sq. ft.; storage; 52+ years old secured area; escort required to access property; contact Air Force for more information.

#2017 Petroleum Operations Building

1402 K Avenue

Sheppard AFB TX 76311

Landholding Agency: Air Force

Property Number: 18201340045

Status: Underutilized

Comments: 1,811 sq. ft.; storage; 47 years old; secured area; escort required to gain access to property; contact Air Force for more information.

#1641 Be Maint Shop

Sheppard AFB

Sheppard TX 76311

Landholding Agency: Air Force

Property Number: 18201340046

Status: Underutilized

Comments: 1,546 sq. ft., storage; 40+yrs. old; secured area; escort required to access property; contact AF for more info.

4475 Chapel Center Partial

Sheppard AFB

Sheppard TX 76311

Landholding Agency: Air Force

Property Number: 18201410008

Status: Unutilized

Comments: 16,076 sq. ft.; 53 yrs. old; fair conditions; escort required each time to access property; contact Air Force for more information.

7 Buildings

Sheppard AFB

Sheppard TX 76311

Landholding Agency: Air Force

Property Number: 18201410009

Status: Underutilized

Directions: 1930 (567 sq. ft.); 55 (9,900 sq. ft.); 57 (2,930 sq. ft.); 832 (17,599 sq. ft.); 961 (22,149 sq. ft.); 962 (21,902 sq. ft.); 1918 (9,758 sq. ft.)

Comments: fair conditions; military escort required each time to access properties; contact Air Force regarding a specific property & accessibility requirements.

Utah

7 Buildings

Hill AFB

Layton UT 84056

Landholding Agency: Air Force

Property Number: 18201340026

Status: Excess

Directions: 01245 (15,103 sq. ft.); 00016 (560 sq. ft.); 1601 (2,785 sq. ft.); 1602 (127 sq. ft.); 1603 (1,000 sq. ft.); 1604 (127 sq. ft.); 1605 (120 sq. ft.)

Comments: off-site removal only; 70+ yrs. old; repairs needed; secured area; clearance for removal granted by installation commander; contact Air Force for more info.

13 Buildings

Hill AFB

Layton UT 84056

Landholding Agency: Air Force

Property Number: 18201340027

Status: Excess

Directions: 1607 (16,050 sq. ft.); 1608 (130 sq. ft.); 1609 (1,000 sq. ft.); 1901 (5,160 sq. ft.); 1902 (8,902 sq. ft.); 1946 (2,436 sq. ft.); 2214 (14,086 sq. ft.); 2232 (1,148 sq. ft.); 2238 (1,148 sq. ft.); 2241 (3,297 sq. ft.); 517 (26,602 sq. ft.); 518 (26,602 sq. ft.)

Comments: off-site removal only; 70+ yrs. old; repairs needed; secured area; clearance for removal granted by installation commander; contact Air Force for more info.

01244

Hill AFB

Layton UT 84056

Landholding Agency: Air Force

Property Number: 18201340038

Status: Excess

Comments: off-site removal only; 14,279 sq. ft.; clearance for removal granted by installation commander; contact Air Force for more info.

Building 11; Hill AFB

5923 C Ave.

Layton UT 84056

Landholding Agency: Air Force

Property Number: 18201340047

Status: Excess

Comments: off-site removal only; 18,898 sq. ft.; office/maint. shop; 72+ yrs. old; deteriorated; asbestos; secured area; contact Air Force for more info.

Virginia

5 Buildings

Fort Eustis

Ft. Eustis VA 23604

Landholding Agency: Air Force

Property Number: 18201340029

Status: Unutilized

Directions: 2739 (2,965 sq. ft.); 2740 (395 sq. ft.); 2746 (9,783 sq. ft.); 2796 (8,453 sq. ft.); 2798 (8,736 sq. ft.)

Comments: off-site removal only; no future agency need; age: 1967 (except bldg. 2740; est. 2008); deteriorated; contact Air Force for more info. on a specific property/accessibility requirements.

Buffalo Park Bldg.

John H. Kerr Lake & Dam

Mecklenburg VA 23917

Landholding Agency: COE

Property Number: 31201410001

Status: Unutilized

Comments: 897 sq. ft.; vacant; deteriorated; repairs needed; contact COE for more information.

Washington

Glacier garage Near Res. #1096

(1057.004841) 07661 00

Glacier WA 98244

Landholding Agency: Agriculture

Property Number: 15201410010

Status: Unutilized

Comments: 306 sq. ft.; open bldg. w/no roof; deteriorated; contact Agriculture for more information.

Baker River WC 3 Br. Res.

(1046.004841) 07661 02

Concrete WA 98237

Landholding Agency: Agriculture

Property Number: 15201410013

Status: Unutilized

Comments: 1,488 sq. ft.; residence; repairs needed; impacted due to environmental conditions; contact Agriculture for more information.

Suitable/Available Properties

Land

Alaska

Parcel of Land

Joint Base Elmendorf Richardson

JBER AK 99506

Landholding Agency: Air Force

Property Number: 18201330011

Status: Underutilized

Comments: 20x20 (400sf.); secured area; must obtain a visitor's pass & have a gov't sponsor escort to access installation; contact Air Force for more info.

Portion of Land

Joint Base Elmendorf Richardson

JBER AK 99505

Landholding Agency: Air Force

Property Number: 18201330012

Status: Underutilized

Comments: 1600 sf.; secured area; visitor's pass and gov't sponsored required; contact Air Force for more info.

Portion of Land

Joint Base Elmendorf Richardson

JBER AK 99505

Landholding Agency: Air Force

Property Number: 18201330013

Status: Underutilized

Comments: .29 acres; secured area; visitor's pass & gov't sponsor required; contact Air Force for more info.

37,515 SF of Land

JBER-Elmendorf

JBER AK 99506

Landholding Agency: Air Force

Property Number: 18201340003

Status: Underutilized

Comments: restricted area; transferee must obtain a government sponsor to access property; contact Air Force for more info.

Florida

WBPA (9901/72441/99300)

9901 E. Pine Ave.

St. George Island FL 32328

Landholding Agency: Air Force

Property Number: 18201310041

Status: Excess

Comments: .34 acres; tower & fence needs to be removed; remote access; contact AF for more info.

99142 Land

Cocoa Beach Tracking Annex

Cocoa Beach FL 32931

Landholding Agency: Air Force

Property Number: 18201340041

Status: Unutilized

Comments: .31 acre; launch support; subject to storm tidal surges that may cause flooding; contact Air Force for more info.

Indiana

Fac. 775/776 Coliometer

ILS Localizer

Cass County Rd. 950 S.

Galveston IN 46932

Landholding Agency: Air Force

Property Number: 18201410020

Status: Excess

Comments: 0.052 acres; contact Air Force for more information.

New York

Parcel 7

AFRL/RI Rome Lab

Rome NY 13441

Landholding Agency: Air Force

Property Number: 18201340036

Status: Unutilized

Comments: 1.722 acres; vacant; partially paved w/chain linked fence surrounding part of property; contact Air Force for more info.

Suitable/Unavailable Properties

Building

Oklahoma

24 Buildings

Tinker AFB

Tinker AFB OK 73145

Landholding Agency: Air Force

Property Number: 18201310040

Status: Excess

Directions: 9005, 217, 222, 234, 803, 902, 903, 904, 905, 990, 994, 1001, 1096, 1110, 2128, 3333, 3805, 4005, 4008, 7005, 7007, 7037, 7038, 7041

Comments: sf. varies; fair to moderate conditions; currently bldgs. are unavailable because they are being utilized by the AF.

Building 4008

6285 Hilltop Rd.

Tinker AFB OK 73145

Landholding Agency: Air Force

Property Number: 18201320085

Status: Excess

Comments: 7,767 sf.; depot operations facility; fair conditions; not available due to existing AF need.

Tennessee

19 Buildings

Fort Campbell

Fort Campbell TN 42223

Landholding Agency: Army

Property Number: 21201410022

Status: Excess

Directions: 00032, 00744, 00749, 00750, 00751, 00752, 00754, 00755, 00756, 00757, 00762, 00862, 00863, 00864, 00865, 00871, 00889, 6081, 7604

Comments: fair to poor conditions; sq. ft. varies; asbestos/lead based paint; secured area; strict accessibility requirements; alternative access; contact Army re: a specific property & accessibility requirements.

8 Buildings

Fort Campbell

Ft. Campbell TN 42223

Landholding Agency: Army

Property Number: 21201410030

Status: Unutilized

Directions: 7141, 2303, 2699, 2994, 2995, 2996, 2997, 3211, 3711

Comments: sq. ft. varies; poor conditions; asbestos/lead based paint; secured area; very strict accessibility requirements; contact Army for more info.

Washington

03321

Joint Base Lewis McChord

JBLM WA 98433

Landholding Agency: Army

Property Number: 21201410039

Status: Underutilized

Comments: off-site removal only; still existing Federal need; dissemble may be required; 33,460 sq. ft.; may be difficult to relocate due to sq. ft. & structure type; contact Army for more info.

Unsuitable Properties

Building

Alabama

2 Buildings

Maxwell AFB

Maxwell AFB AL 36112

Landholding Agency: Air Force

Property Number: 18201310034

Status: Underutilized

Directions: 1450, 1451

Comments: secured military installation; public access denied & no alternative method to gain access w/out compromising nat'l security.

Reasons: Secured Area

3 Buildings

Visiting Officer Qtrs.

Gunter Annex AL 36114

Landholding Agency: Air Force

Property Number: 18201310035

Status: Underutilized

Directions: 1014, 1015, 1016

Comments: secured military installation; public access denied & no alternative method to gain access w/out compromising nat'l security.

Reasons: Secured Area

Building 1411, Visiting Airman

635 McDonnell Street

Maxwell AFB AL 36114

Landholding Agency: Air Force

Property Number: 18201320009

Status: Underutilized

Comments: Public access denied & no alternative method to gain access w/out compromising nat'l sec.

Reasons: Secured Area

Building 122, Military Family

321 Hickory Street

Maxwell AFB AL 36112

Landholding Agency: Air Force

Property Number: 18201320012

Status: Underutilized

Comments: Public access denied & no alternative method to gain access w/out compromising nat'l sec.

Reasons: Secured Area

4 Facilities

20 Kelly Street

Maxwell AFB AL 36112

Landholding Agency: Air Force

Property Number: 18201320014

Status: Excess

Directions: 1073, 1074, 1075, 1076

Comments: Public access denied & no alternative method to gain access w/out compromising nat'l sec.

Reasons: Secured Area

Alaska

3 Buildings

Eielson AFB

Eielson AK

Landholding Agency: Air Force

Property Number: 18201310017

Status: Unutilized

Directions: 6161, 6120, 6154

Comments: w/in secured area; public access denied & no alternative method to gain access w/out compromising nat'l security.

Reasons: Secured Area

10 Buildings

Flaxman Island

Flaxman Island AK

Landholding Agency: Air Force

Property Number: 18201320031

Status: Excess

Directions: 22, 23, 24, 41, 44, 4, 5, 100, 101, 105

Comments: Public access denied & no alternative method to gain access w/out compromising nat'l sec.

Reasons: Secured Area

Building 4

Flaxman Island

Flaxman Island AK

Landholding Agency: Air Force

Property Number: 18201320078

Status: Excess

Comments: public access denied & no alternative method to gain access w/out compromising nat'l security.

Reasons: Secured Area

Bldg. 2206

Eielson; 2345 Wabash Ave.

Eielson AK 99702

Landholding Agency: Air Force

Property Number: 18201340002

Status: Unutilized

Comments: public access denied and no alternative method to gain access w/out compromising national security.

Reasons: Secured Area

2 Buildings

Eareckson Air Station

Eareckson, AS AK

Landholding Agency: Air Force

Property Number: 18201410010

Status: Unutilized

Directions: 452, 453

Comments: public access denied and no alternative method to gain access w/out compromising national security.

Reasons: Secured Area

652

Joint Base Elmendorf

Richardson

JBER-Richardson AK 99505

Landholding Agency: Air Force

Property Number: 18201410018

Status: Underutilized

Comments: public access denied and no alternative method to gain access w/out compromising national security.

Reasons: Secured Area

Arizona

Building 1535-Credit Union W.

N. 138th Ave.

Glendale AZ 85309

Landholding Agency: Air Force

Property Number: 18201320001

Status: Excess

Comments: w/in secured area; public access denied & no alternative method to gain access w/out compromising nat'l security.

Reasons: Secured Area

6 Buildings

Davis Monthan AFB

Tucson AZ 85707

Landholding Agency: Air Force

Property Number: 18201340028

Status: Underutilized

Directions: 127, 7410, 7411, 7413, 7416, 7412

Comments: located on a gated entry controlled military base; public access denied and no alternative method to gain access w/out compromising national security.

Reasons: Secured Area

Arkansas

Shiloh Park Change Shelter

Greers Ferry Lake Project

Greer Ferry AR 72067

Landholding Agency: COE

Property Number: 31201410004

Status: Underutilized

Comments: Documented deficiencies: structurally unsound; significant cracks in foundation; any attempt to relocate will result in collapse of structure.

Reasons: Extensive deterioration

California

2 Buildings

401 & 405 14th St.

Edwards AFB CA 93524

Landholding Agency: Air Force

Property Number: 18201230002

Status: Unutilized

Directions: 7177, 7179

Comments: public access not allowed; no alternative method to allow public access w/out comprising nat'l security.

Reasons: Secured Area

4259

741 Circle

Edwards AFB CA 93524

Landholding Agency: Air Force

Property Number: 18201230003

Status: Unutilized

Comments: public access not allowed; no alternative method to allow public access w/out comprising nat'l security.

Reasons: Secured Area

3 Buildings

Edwards AFB

Edwards AFB CA 93524

Landholding Agency: Air Force

Property Number: 18201230032

Status: Unutilized

Directions: 1412,4203,7020

Comments: located w/in restricted area where public access denied & no alternative method to gain access w/out compromising nat'l security.

Reasons: Secured Area

26 Buildings

Eureka Hill Rd.

Point Arena Air CA

Landholding Agency: Air Force

Property Number: 18201240011

Status: Underutilized

Directions: 602,603,604,605,606,607,608,609,610,611,612,613,614,615,616,617,618,619,620,621,622,623,624,625,626,627

Comments: secured area; public access denied & no alternative method to gain access w/out compromising nat'l security.

Reasons: Secured Area

21 Buildings

Eureka Hill Rd.

Point Arena Air CA

Landholding Agency: Air Force

Property Number: 18201240012

Status: Underutilized

Directions: 100,102,104,105,160,201,108,202,203,206,220,221,222,225,228,217,218,408,700,300,216

Comments: secured area; public access denied & no alternative method to gain access w/out compromising nat'l security.

Reasons: Secured Area

ACFT DY RSCH

Edwards AFB

Edwards CA

Landholding Agency: Air Force

Property Number: 18201240016

Status: Unutilized

Comments: secured area; public access denied & no alternative method to gain access w/out compromising nat'l security.

Reasons: Secured Area

ACFT RSCH ENG

Edwards AFB

Edwards CA

Landholding Agency: Air Force

Property Number: 18201240017

Status: Unutilized

Comments: secured area; public access denied & no alternative method to gain access w/out compromising nat'l security.

Reasons: Secured Area

Kennel Stray Animal

Edwards AFB

Edwards CA

Landholding Agency: Air Force

Property Number: 18201240018

Status: Excess

Comments: secured area; public access denied & no alternative method to gain access w/out compromising nat'l security.

Reasons: Secured Area

10 Buildings

Fresno Yosemite Intern `l

Fresno CA 93727

Landholding Agency: Air Force

Property Number: 18201240036

Status: Excess

Directions: 2202,2203,2204,2206,2207,2208,2217,2219,2221,2223

Comments: restricted area; public access denied & no alternative method to gain access w/out compromising nat'l security.

Reasons: Secured Area

4 Buildings

Arnold/Grumman Ave.

Beale CA 95903

Landholding Agency: Air Force

Property Number: 18201310018

Status: Underutilized

Directions: 1057, 1058, 1226, 1152

Comments: w/in secured area; public access denied & no alternative method to gain access w/out compromising nat'l security.

Reasons: Secured Area

4 Buildings

Edwards AFB

Edwards AFB CA 93523

Landholding Agency: Air Force

Property Number: 18201310053

Status: Underutilized

Directions: B1412, B1400, B4900, B8834

Comments: secured area; public access denied & no alternative w/out compromising nat'l security.

Reasons: Secured Area

West Wing Education Center

144 Wyoming Ave.

Vandenberg CA 93437

Landholding Agency: Air Force

Property Number: 18201320061

Status: Underutilized

Directions: 10 Buildings; 14001-14010

Comments: public access denied & no alternative method to gain access w/out compromising nat'l sec.

Reasons: Secured Area

Building 124

Defense Distribution, San Joaquin

Sharpe Site

Lathrop CA 95231

Landholding Agency: Air Force

Property Number: 18201330052

Status: Unutilized

Comments: public access denied & no alternative method to gain access w/out compromising nat'l security.

Reasons: Secured Area

C927 and C15

Sandia National Lab

Livermore CA 94550

Landholding Agency: Energy

Property Number: 41201410009

Status: Underutilized

Comments: public access denied and no alternative method to gain access w/out compromising national security.

Reasons: Secured Area

Warehouse No. 9

Edwards AFB

Edwards CA

Landholding Agency: NASA

Property Number: 71201410003

Status: Excess

Directions: NASA DFRC

Comments: public access denied and no alternative method to gain access w/out compromising national security.

Reasons: Secured Area

Facilities Maint. Contractor

Bldg.

Edwards AFB

Edwards CA

Landholding Agency: NASA

Property Number: 71201410004

Status: Excess

Directions: NASA DFRC

Comments: public access denied and no alternative method to gain access w/out compromising national security.

Reasons: Secured Area

Colorado

4 Buildings

Buckley AFB

Aurora CO 80011

Landholding Agency: Air Force

Property Number: 18201230017

Status: Underutilized

Directions: B1504,B1503,B1502,B1501

Comments: located w/in secured area where public access denied & no alternative method to gain access w/out compromising nat'l security.

Reasons: Secured Area

Building 1615

1390 S. Chucara Street

Aurora CO 80011

Landholding Agency: Air Force

Property Number: 18201320028

Status: Unutilized

Comments: public access denied & no alternative method to gain access method w/out compromising nat'l sec.

Reasons: Secured Area

B/2001

Range 123W.-Prairie

Pueblo West CO 81007

Landholding Agency: Air Force

Property Number: 18201330035

Status: Underutilized

Comments: public access denied & no alternative method to gain access w/out compromising nat'l security.

Reasons: Secured Area

MFH-Bldg. 47000

A & B E. Ponderosa Dr.

UASF CO 80840

Landholding Agency: Air Force

Property Number: 18201340033

Status: Unutilized

Comments: public access denied & no alternative method to gain access w/out compromising national security.

Reasons: Secured Area

Delaware

2 Buildings

Dover AFB

Dover DE 19902

Landholding Agency: Air Force

Property Number: 18201230018

Status: Underutilized

Directions: 3499,899

Comments: located w/in secured area where public access denied & no alternative method to gain access w/out compromising nat'l security.

Reasons: Secured Area

Building 2818

2600 Spruance Dr.

New Castle DE 19720

Landholding Agency: Air Force

Property Number: 18201310050

Status: Unutilized

Comments: secured area; public access denied & no alternative w/out compromising nat'l security.

Reasons: Secured Area

Florida

Facilities 28407 & 28411

1656 Lighthouse Rd.

Cape Canaveral FL 32925

Landholding Agency: Air Force

Property Number: 18201220009

Status: Excess

Comments: nat'l security concerns; public access denied & no alternative method to gain access w/out comprising nat'l security.

Reasons: Secured Area

10 Buildings

Cape Canaveral

Cape Canaveral FL 32925

Landholding Agency: Air Force

Property Number: 18201220039

Status: Excess

Directions: 28411, 28415, 44500, 49928, 28401, 24445, 24404, 24403, 1715, 70540

Comments: nat'l security concerns; public access denied & no alternative method to gain access w/out comprising nat'l security.

Reasons: Secured Area

3 Buildings

MacDill AFB

MacDill FL 33621

Landholding Agency: Air Force

Property Number: 18201230009

Status: Unutilized

Directions: 1205, 1149, 1135

Comments: located w/in secured area where public access denied & no alternative method to gain access w/out compromising nat'l security.

Reasons: Secured Area

10 Buildings

Samuel C. Philips Pkwy

Cape Canaveral AFB FL 32925

Landholding Agency: Air Force

Property Number: 18201230014

Status: Excess

Directions: 84922,84920,67900,60535,60534,1361,40906,56623,36004,17705

Comments: located w/in secured area where public access denied & no alternative method to gain access w/out compromising nat'l security.

Reasons: Secured Area

Facility 49800

15030 Samuel C. Phillips Pkwy

Cape Canaveral FL 32925

Landholding Agency: Air Force

Property Number: 18201230019

Status: Excess

Comments: located w/in secured area where public access denied & no alternative method to gain access w/out compromising nat'l security.

Reasons: Secured Area

Bldg. 1132

Transmitter Rd.

MacDill AFB FL 33621

Landholding Agency: Air Force

Property Number: 18201230021

Status: Unutilized

Comments: located w/in secured area where public access denied & no alternative method to gain access w/out compromising nat'l security.

Reasons: Secured Area

Bldg. 297

8005 Hillsborough Loop Dr.

MacDill FL 33621

Landholding Agency: Air Force

Property Number: 18201230049

Status: Underutilized

Comments: located w/in secured area; public access denied & no alternative method to gain access w/out compromising nat'l security.

Reasons: Secured Area

2 Buildings

Eglin AFB

Eglin FL 32542

Landholding Agency: Air Force

Property Number: 18201230058

Status: Unutilized

Directions: 586, 9267

Comments: located in restricted controlled gov't installation; public access denied & no alternative method to gain access w/out compromising nat'l security.

Reasons: Secured Area

4 Buildings

Fighter Wing, FL ANGB

Jacksonville FL 32218

Landholding Agency: Air Force

Property Number: 18201240028

Status: Underutilized

Directions: 1014,1015,1016,1017

Comments: property located on a gated entry controlled military base; public access denied & no alternative to gain access w/out compromising nat'l security.

Reasons: Secured Area

Facility 3013

107 Ford St.

Eglin AFB FL 32542

Landholding Agency: Air Force

Property Number: 18201240034

Status: Underutilized

Comments: located in a secured area; on the Duke Field cantonment area; public access denied & no alternative method to gain access w/out compromising nat'l security.

Reasons: Secured Area

3 Buildings

Tyndall AFB

Tyndall FL 32403

Landholding Agency: Air Force

Property Number: 18201310012

Status: Unutilized

Directions: B122, B123, 920

Comments: located w/in secured area; public access denied & no alternative method to gain access w/out compromising nat'l security.

Reasons: Secured Area

21 Buildings

Cape Canaveral AFS

Cape Canaveral AFS FL 32925

Landholding Agency: Air Force

Property Number: 18201310032

Status: Unutilized

Directions: 1627, 2826, 2842, 4120, 5414, 7006, 7850, 8602, 15832, 28403, 28404, 28408, 28409, 28414, 28420, 28422, 28423, 28425, 28502, 28504, 36001

Comments: secured area; public access denied & no alternative method to gain access w/out compromising nat'l security.

Reasons: Secured Area

5 Buildings

Kennedy Space Ctr. Communications

Kennedy Space Ctr. FL 32815

Landholding Agency: Air Force

Property Number: 18201310033

Status: Unutilized

Directions: 29115, 29120, 29139, 29142, 95401

Comments: secured area; public access denied & no alternative method without compromising nat'l security.

Reasons: Secured Area

12 Buildings

Florida Ave.

Tyndall AFB FL 32403

Landholding Agency: Air Force

Property Number: 18201310061

Status: Underutilized

Directions: 6030, 6022, 6021, 6020, 6016, 6014, 6025, 6023, 6028, 9706, 9704, 9719

Comments: secured area; public access denied & no alternative method w/out compromising nat'l security.

Reasons: Secured Area

6027 CE Shop/DRMO

302 Florida Ave.

Tyndall AFB FL 32403

Landholding Agency: Air Force

Property Number: 18201310062

Status: Excess

Comments: secured area; public access denied & no alternative method w/out compromising nat'l security.

Reasons: Secured Area

5 Buildings

MacDill AFB

MacDill AFB FL 33621

Landholding Agency: Air Force

Property Number: 18201320051

Status: Underutilized

Directions: 827,826,694,550,13

Comments: not accessible to public; no alter. to gain access w/out compromising nat'l sec.

Reasons: Secured Area

3 Buildings

MacDill AFB

MacDill AFB FL 33621

Landholding Agency: Air Force

Property Number: 18201320052

Status: Underutilized

Directions: 1107,65,60

Comments: not accessible to public; no alter. to gain access w/out compromising nat'l sec.

Reasons: Secured Area

2 Buildings

MacDill AFB

MacDill AFB FL 33671

Landholding Agency: Air Force

Property Number: 18201320065

Status: Unutilized

Directions: 1153,1271

Comments: public access denied & no alternative method to gain access w/out compromising nat'l sec.

Reasons: Secured Area

2 Buildings

FTFA

Eglin AFB FL 32542

Landholding Agency: Air Force

Property Number: 18201330018

Status: Underutilized

Directions: 2664,2694

Comments: public access denied & no alternative to gain access w/out compromising nat'l security..

Reasons: Secured Area

Building 56636

755 Lighthouse Rd.

Cape Canaveral AFS FL 32925

Landholding Agency: Air Force

Property Number: 18201330020

Status: Unutilized

Comments: public access denied & no alternative method to gain access w/out compromising nat'l security..

Reasons: Secured Area

2 Buildings

125th Fighter Wing

Jacksonville FL 32218

Landholding Agency: Air Force

Property Number: 18201340012

Status: Unutilized

Directions: 1047, 1048

Comments: public access denied & no alternative method to gain access w/out compromising national security.

Reasons: Secured Area

4 Buildings

Cape Canaveral Air Force Station

Cape Canaveral FL 32925

Landholding Agency: Air Force

Property Number: 18201410002

Status: Unutilized

Directions: 60550, 55150, 1381, 28413

Comments: public access denied and no alternative to gain method to gain access w/out compromising national security.

Reasons: Secured Area

Hawaii

2 Buildings

Wake Island

Wake Island HI 96898

Landholding Agency: Air Force

Property Number: 18201330009

Status: Unutilized

Directions: 01406,01403

Comments: public access denied & no alternative to gain access w/out compromising nat'l security..

Reasons: Secured Area

Building 102

Wake Island Airfield

Wake Island HI 96898

Landholding Agency: Air Force

Property Number: 18201330047

Status: Unutilized

Comments: 100% of the property located in floodway; not contained or corrected.

Reasons: Floodway

Joint Base Pearl Harbor Hickam

Installation N62813

325 Gardner Ave.

Pearl Harbor HI 96853

Landholding Agency: Air Force

Property Number: 18201330048

Status: Unutilized

Comments: public access denied & no alternative method to gain access w/out compromising nat'l security..

Reasons: Secured Area

Idaho

Riggins Tack Shed #2

Wallowa-Whitman National Forest

Hells Canyon National

Riggins ID 83549

Landholding Agency: Agriculture

Property Number: 15201410014

Status: Excess

Comments: documented deficiency; structurally unsound; roof collapsing.

Reasons: Extensive deterioration

Fac. 291

Bomber Rd.

MHAFB ID 83648

Landholding Agency: Air Force

Property Number: 18201240013

Status: Unutilized

Comments: secured area; public access denied & no alternative method to gain access w/out compromising nat'l security.

Reasons: Secured Area

Illinois

3 Buildings

Scott AFB

Scott AFB IL 62225

Landholding Agency: Air Force

Property Number: 18201220034

Status: Unutilized

Directions: 1984, 1985, 530

Comments: high security. active duty installation; nat'l security. concerns; public access denied & no alternative method to gain access w/out comprising nat'l security.

Reasons: Secured Area

B1508

107 Bucher St.

Scott AFB IL 62225

Landholding Agency: Air Force

Property Number: 18201230023

Status: Excess

Comments: authorized access only; restricted area; public access denied & no alternative method to gain access w/out compromising nat'l security.

Reasons: Secured Area

Building 509

611 South Drive

Scott AFB IL 62225

Landholding Agency: Air Force

Property Number: 18201310009

Status: Unutilized

Comments: located w/in secured area; public access denied & no alternative method to gain access w/out compromising nat'l security.

Reasons: Secured Area

2 Buildings

Scott AFB

Scott AFB IL 62225

Landholding Agency: Air Force

Property Number: 18201320029

Status: Unutilized

Directions: 3270, 4900

Comments: high security. active duty installation; public access denied & no alter. method w/out compromising nat'l sec.

Reasons: Secured Area

2 Buildings

Abraham Lincoln Capital Airport

Springfield IL 62707

Landholding Agency: Air Force

Property Number: 18201330031

Status: Excess

Directions: 124,5

Comments: public access denied & no alternative method to gain access w/out compromising nat'l security.

Reasons: Secured Area

Bldg. 155

Scott AFB

Scott IL 62225

Landholding Agency: Air Force

Property Number: 18201340022

Status: Unutilized

Comments: public access denied & no alternative method to gain access w/out compromising national security.

Reasons: Secured Area

Lake Shelbyville Project Lake

St. Louis District

Shelbyville IL 62565

Landholding Agency: COE

Property Number: 31201410003

Status: Unutilized

Comments: public access denied and no alternative method to gain access w/out compromising national security.

Reasons: Secured Area

Indiana

Facilities 99 &1371

Stor Igloos

Terre Haute IN 47803

Landholding Agency: Air Force

Property Number: 18201220019

Status: Unutilized

Comments: nat'l security. concerns; public access denied & no alternative method to gain access w/out comprising nat'l security..

Reasons: Secured Area

Kansas

Building 985

McConnell AFB

Wichita KS 67221

Landholding Agency: Air Force

Property Number: 18201330021

Status: Underutilized

Comments: public access denied & no alternative method to gain access w/out compromising nat'l security.

Reasons: Secured Area

Louisiana

3 Buildings

Barksdale AFB

Barksdale AFB LA 71110

Landholding Agency: Air Force

Property Number: 18201220032

Status: Unutilized

Directions: 5724, 7318, 7136

Comments: nat'l security. concerns; public access denied & no alternative method to gain access w/out comprising nat'l security.

Reasons: Secured Area

B-5485

Barksdale AFB

Barksdale LA 71110

Landholding Agency: Air Force

Property Number: 18201330040

Status: Unutilized

Comments: public access denied & no alternative method to gain access w/out compromising nat'l security.

Reasons: Secured Area

B-4359

Barksdale AFB

Barksdale LA 71110

Landholding Agency: Air Force

Property Number: 18201410012

Status: Unutilized

Comments: public access denied and no alternative method to gain access w/out compromising national security.

Reasons: Secured Area

Maine

Building 421

Bangor Intern `l Airport

Bangor ME 04401

Landholding Agency: Air Force

Property Number: 18201320057

Status: Excess

Comments: public access & no alters. w/out compromising nat'l sec.

Reasons: Secured Area

Building 495

104 Glenn Ave.

Bangor ME 04401

Landholding Agency: Air Force

Property Number: 18201320059

Status: Excess

Comments: public access denied & no alters. w/out compromising nat'l sec.

Reasons: Secured Area

Maryland

2 Buildings

Martin State Airport

Baltimore MD 21220

Landholding Agency: Air Force

Property Number: 18201220022

Status: Excess

Directions: 1120 & 1121

Comments: nat'l security. concerns; public access denied & no alternative method to gain access w/out comprising nat'l security.

Reasons: Secured Area

9 Buildings

Joint Base Andrews

Joint base Andrews MD 20762

Landholding Agency: Air Force

Property Number: 18201340034

Status: Unutilized

Directions: 4942, 4952, 4962, 4963, 4964, 4971, 4972, 4973, 4982

Comments: no entry to military installation w/out DoD ID; public access denied & no alternative method to gain access w/out compromising national security.

Reasons: Secured Area

Massachusetts

137 Pump House

Reilly House

OTIS ANGB MA

Landholding Agency: Air Force

Property Number: 18201230048

Status: Excess

Comments: located w/in secured area; public access denied & no alternative method to gain access w/out compromising nat'l security.

Reasons: Secured Area

3 Buildings

175 Falcon Dr.

Westfield MA 01085

Landholding Agency: Air Force

Property Number: 18201240026

Status: Excess

Directions: 16,35,28

Comments: located on secured area; public access denied & no alternative methods to gain access w/out compromising nat'l security.

Reasons: Secured Area

2 Building

50 Maple Street

Milford MA 01757

Landholding Agency: Air Force

Property Number: 18201320056

Status: Excess

Directions: 100 & 101

Comments: public access denied & no alternative method to gain access w/out compromising Nat'l sec.

Reasons: Secured Area

10 Buildings

Hanscom AFB

Hanscom MA 01731

Landholding Agency: Air Force

Property Number: 18201410006

Status: Excess

Directions: 1122, 1123, 1124, 1126, 1128, 1138, 1140, 1141, 1142

Comments: public access denied and no alternative to method to gain access w/out compromising national security.

Reasons: Secured Area

Mississippi

Bldg. 21005

6225 M St.

Meridian MS 39307

Landholding Agency: Air Force

Property Number: 18201230046

Status: Unutilized

Comments: access limited to military personnel only; public access denied & no alternative method to gain access w/out compromising nat'l security.

Reasons: Secured Area

Building 630

713 Lockhart

Columbus MS 39710

Landholding Agency: Air Force

Property Number: 18201230060

Status: Underutilized

Comments: public access denied & no alternative method to gain access w/out compromising nat'l security.

Reasons: Secured Area

Building 115

CRTC Gulfport

Gulfport MS 39507

Landholding Agency: Air Force

Property Number: 18201330002

Status: Excess

Comments: public access denied & no alternative method to gain access method w/out compromising Nat'l sec.

Reasons: Secured Area

5025

Keesler AFB

Keesler AFB MS 39534

Landholding Agency: Air Force

Property Number: 18201410011

Status: Underutilized

Comments: public access denied and no alternative method to gain access w/out compromising national security.

Reasons: Secured Area

Small Arms Firing Range

Keesler AFB

Keesler AFB MS 39534

Landholding Agency: Air Force

Property Number: 18201410013

Status: Excess

Comments: public access denied and no alternative method to gain access w/out compromising national security.

Reasons: Secured Area

Missouri

Building 115

10800 Lambert Int'l Blvd.

St. Louis MO 63044

Landholding Agency: Air Force

Property Number: 18201310004

Status: Unutilized

Comments: restricted military installation; public access denied & no alternative method to gain access w/out compromising nat'l security.

Reasons: Secured Area

N. Mariana Island

Building 2001/RG CON HSE

Range 123 W.—Prairie

Pueblo West CQ 81007

Landholding Agency: Air Force

Property Number: 18201330005

Status: Underutilized

Comments: Public access denied & no alter., method w/out compromising nat'l sec.

Reasons: Secured Area

Nebraska

Building 113

null

Offutt AFB NE 68113

Landholding Agency: Air Force

Property Number: 18201320039

Status: Excess

Comments: Public access denied and no alternative method to gain access Without compromising Nat'l sec.

Reasons: Secured Area

Building 670

1111 West Oak Ave.

Lincoln NE 68524

Landholding Agency: Air Force

Property Number: 18201320084

Status: Unutilized

Comments: 100% of property located in floodway; floodway has not been correct or contained.

Reasons: Floodway

Bldg. 73

510 Custer Dr.

Offutt AFB NE 68113

Landholding Agency: Air Force

Property Number: 18201340009

Status: Excess

Comments: public access denied & no alternative method to gain access w/out compromising national security.

Reasons: Secured Area

New Hampshire

PEASE ANGB

302 Newmarket St.

Newington NH 03803

Landholding Agency: Air Force

Property Number: 18201230043

Status: Unutilized

Comments: public access denied & no alternative method to gain access w/out compromising nat'l security.

Reasons: Secured Area

New Mexico

Bldgs. 573,855, 859

Holloman AFB

Holloman AFB NM 88330

Landholding Agency: Air Force

Property Number: 18201220023

Status: Unutilized

Comments: nat'l security concerns; public access denied & no alternative method to gain access w/out comprising nat'l security.

Reasons: Secured Area

5 Buildings

Holloman AFB

Holloman AFB NM 88330

Landholding Agency: Air Force

Property Number: 18201220030

Status: Unutilized

Directions: 19, 838, 1197, 847, 1198

Comments: nat'l security concerns; public access denied due to anti-terrorism & no alternative method to gain access w/out comprising nat'l security.

Reasons: Secured Area

Buildings 782,793,1102,803

Holloman AFB

Holloman NM 88330

Landholding Agency: Air Force

Property Number: 18201240008

Status: Unutilized

Comments: Active military installation; public access denied & no alternative method to gain access w/out compromising nat'l security.

Reasons: Secured Area

Building 848

Holloman AFB

Holloman NM 88330

Landholding Agency: Air Force

Property Number: 18201330007

Status: Unutilized

Comments: Public access denied due to anti-terrorism/force protection; no alternative method to gain access.

Reasons: Secured Area

Building 848

Holloman AFB

Holloman NM 88330

Landholding Agency: Air Force

Property Number: 18201340032

Status: Unutilized

Directions: RPUID: 44558

Comments: public access denied & no alternative method to gain access w/out compromising national security.

Reasons: Secured Area

Bldg. 849 RPUID:439167

Holloman AFB

Holloman NM 88330

Landholding Agency: Air Force

Property Number: 18201410019

Status: Excess

Comments: public access denied and no alternative method to gain access w/out compromising national security.

Reasons: Secured Area

2 Buildings

Los Alamos National Lab

Los Alamos NM 87545

Landholding Agency: Energy

Property Number: 41201410008

Status: Excess

Directions: 72-0015 & 72-0016

Comments: public access denied and no alternative method to gain access w/out compromising national security.

Reasons: Secured Area

New York

Bldg. 11

1 Air National Guard Rd.

Schenectady Airport NY 12302

Landholding Agency: Air Force

Property Number: 18201340017

Status: Excess

Comments: public access denied & no alternative method to gain access w/out compromising national security.

Reasons: Secured Area

702

Niagara Falls IAP

ARS-NY

Niagara Falls NY 14304

Landholding Agency: Air Force

Property Number: 18201410005

Status: Unutilized

Comments: public access denied and no alternative method to gain access w/out compromising national security.

Reasons: Secured Area

3 Buildings

Hancock Field ANG IAP

Syracuse NY 13211

Landholding Agency: Air Force

Property Number: 18201410014

Status: Unutilized

Directions: 600, 641, 617

Comments: public access denied and no alternative method to gain access w/out compromising national security.

Reasons: Secured Area

North Carolina

Tract #91929; Welcome Center

Pavilion

1000 N. Croatan Hwy

Kill Devil Hills NC 27948

Landholding Agency: Interior

Property Number: 61201410007

Status: Excess

Comments: experience flooding during heavy rainfall; located in an 100 yr. floodplain in where floodway has not been corrected and/or contained.

Reasons: Floodway

North Dakota

28 Buildings

JFSD Grand Forks AFB

Grand Folks ND 58205

Landholding Agency: Air Force

Property Number: 18201320043

Status: Unutilized

Directions: 702,727,728,729,730,731,733,726,725,724,723,722,720,719,718,717,715,714,713,712,711,709,708,707,706,705,703,704

Comments: not accessible to public & no alter. w/out compromising nat'l sec.

Reasons: Secured Area

Ohio

Facility 20167

2310 Eighth St.

WPAFB OH 43433

Landholding Agency: Air Force

Property Number: 18201230031

Status: Unutilized

Comments: located w/in controlled fenced perimeter of military installation; public access denied & no alternative method to gain access w/out compromising nat'l security.

Reasons: Secured Area

10 Buildings

WPAFB

WPAFB OH 45433

Landholding Agency: Air Force

Property Number: 18201310013

Status: Unutilized

Directions: 10297, 20062, 20096, 20130, 30153, 30882, 30902, 31190, 30230, 31234

Comments: w/in secured installation; public access denied & no alternative method to gain access w/out compromising nat'l security.

Reasons: Secured Area

3 Buildings

Wright-Patterson AFB

WPAFB OH 45433

Landholding Agency: Air Force

Property Number: 18201320058

Status: Unutilized

Directions: 00841,34020,34065

Comments: w/insured gov't installation; public access denied & no alter. w/out compromising nat'l sec.

Reasons: Secured Area

Oklahoma

Facility 47

Altus AFB

AGGN OK 73523

Landholding Agency: Air Force

Property Number: 18201230030

Status: Excess

Comments: public access denied due to anti-terrorism/force protection & no alternative method to gain access w/out compromising nat'l security.

Reasons: Secured Area

Facility 47

501 North First St.

Altus OK 73523

Landholding Agency: Air Force

Property Number: 18201240022

Status: Excess

Comments: public access denied & no alternative method to gain access w/out compromising nat'l security.

Reasons: Secured Area

2 Buildings

Altus AFB

Altus OK 73523

Landholding Agency: Air Force

Property Number: 18201310051

Status: Unutilized

Directions: 267, 335

Comments: secured area; public access denied & no alternative w/out compromising nat'l security.

Reasons: Secured Area

Oregon

Building 1004

6801 NE Cornfoot Rd.

Portland OR 97218

Landholding Agency: Air Force

Property Number: 18201240025

Status: Unutilized

Comments: located on secured areea; public access denied & no alternative method to gain access w/out compromising nat'l security.

Reasons: Secured Area

Building 188

6801 NE Cornfoot Road

Portland OR 97218

Landholding Agency: Air Force

Property Number: 18201320064

Status: Unutilized

Comments: public access denied & no alternative method to gain access method w/out compromising nat'l sec.

Reasons: Secured Area

Building 370

Portland IAP TQKD (ANG)

Portland OR 97218

Landholding Agency: Air Force

Property Number: 18201330045

Status: Unutilized

Comments: public access denied & no alternative to gain access w/out compromising nat'l security.

Reasons: Secured Area

Pennsylvania

Pa Ang Bldg. 1-66

Ft. Indiantown Gap AGS, LKLW

Annville PA 17003

Landholding Agency: Air Force

Property Number: 18201330051

Status: Excess

Comments: public access denied & no alternative method to gain access w/out compromising nat'l security.

Reasons: Secured Area

Pa Ang Bldg. 1-66

Fort Indiantown Gap

AGS, LKLW

Annville PA 17003

Landholding Agency: Air Force

Property Number: 18201340018

Status: Excess

Comments: public access denied & no alternative method to gain access w/out compromising national security.

Reasons: Secured Area

Rhode Island

Buildings 25 CC & A10 CC

Naval Station Newport

Newport RI 02841

Landholding Agency: Navy

Property Number: 77201410012

Status: Excess

Comments: public access denied and no alternative method to gain access w/out compromising national security.

Reasons: Secured Area

Fac. #307

Naval Station Newport

Newport RI 02840

Landholding Agency: Navy

Property Number: 77201410013

Status: Excess

Comments: public access denied and no alternative method to gain access w/out compromising nat'l security; 85-90% of property located in an uncontained/uncorrected floodway.

Reasons: Floodway, Secured Area

South Carolina

Bldg. 211

110 Graves Ave.

Joint Base Charleston SC 29404

Landholding Agency: Air Force

Property Number: 18201230055

Status: Unutilized

Comments: located in restricted area; public access denied & no alternative method to gain access w/out compromising nat'l security.

Reasons: Secured Area

DKGV 822

JB Charleston

Goose Creek SC 29445

Landholding Agency: Air Force

Property Number: 18201340010

Status: Unutilized

Comments: public access denied & no alternative method to gain access w/out compromising national security.

Reasons: Secured Area

DKGV 43

JB Charleston

Goose Creek SC 29445

Landholding Agency: Air Force

Property Number: 18201340011

Status: Underutilized

Comments: public access denied & no alternative method to gain access w/out compromising national security.

Reasons: Secured Area

South Dakota

Building 80

1201 W Algonquin St.

Sioux Falls SD 57104

Landholding Agency: Air Force

Property Number: 18201330003

Status: Excess

Comments: public access denied & no alternative method to gain access method w/out compromising Nat'l sec.

Reasons: Secured Area

Building 80

LUXC Joe Foss Field

Sioux Falls SD 57104

Landholding Agency: Air Force

Property Number: 18201330039

Status: Excess

Comments: public access denied & no alternative method to gain access w/out compromising nat'l security.

Reasons: Secured Area

Tennessee

Bldg. 708

Nashville IAP

Nashville TN 37217

Landholding Agency: Air Force

Property Number: 18201230059

Status: Underutilized

Comments: authorized military personnel only; restricted area; public access denied & no alternative method to gain access w/out compromising nat'l security.

Reasons: Secured Area

Building 712

240 Knapp Blvd.

Nashville TN 37217

Landholding Agency: Air Force

Property Number: 18201240024

Status: Excess

Comments: located on secured area; public access denied & no alternative method to gain access w/out compromising nat'l security.

Reasons: Secured Area

Building 750

South Fourth St.

Arnold AFB TN 37389

Landholding Agency: Air Force

Property Number: 18201240037

Status: Excess

Comments: located on secured area where public access denied & no alternative method to gain access w/out compromising nat'l security.

Reasons: Secured Area

Facilities 1470 & 1485

Arnold AFB

Arnold AFB TN 37389

Landholding Agency: Air Force

Property Number: 18201310063

Status: Excess

Comments: secured area; public access denied & no alternative method w/out compromising nat'l security.

Reasons: Secured Area

Building 131

320 Post Ave. McGhee Tyson

Louisville TN 37777

Landholding Agency: Air Force

Property Number: 18201320045

Status: Unutilized

Comments: secured military installation; public access denied & no alter. method w/out compromising nat'l sec.

Reasons: Secured Area

Building 13

320 Post Ave. McGhee Tyson

Louisville TN 37777

Landholding Agency: Air Force

Property Number: 18201320046

Status: Excess

Comments: secured military installation, public access denied & no alter. w/out compromising nat'l sec.

Reasons: Secured Area

Bldg. 425, Viewing Stand

PSXE (McGhee Tyson Airport)

Louisville TN 37777

Landholding Agency: Air Force

Property Number: 18201340019

Status: Underutilized

Comments: public access denied & no alternative method to gain access w/out compromising national security.

Reasons: Secured Area

4 Buildings

McGhee Tyson Airport

Louisville TN 37777

Landholding Agency: Air Force

Property Number: 18201410007

Status: Excess

Directions: 106, 3001, 241, 3000

Comments: public access denied and no alternative method to gain access w/out compromising national security.

Reasons: Secured Area

Bldg. 425

McGhee Tyson Airport

Louisville TN 37777

Landholding Agency: Air Force

Property Number: 18201410015

Status: Underutilized

Comments: public access denied and no alternative method to gain access w/out compromising national security.

Reasons: Secured Area

Texas

11 Buildings

Ft. Sam Houston

San Antonio TX 78234

Landholding Agency: Air Force

Property Number: 18201220014

Status: Unutilized

Directions: 1149, 1151, 1152, 1153, 1154, 1158, 1159, 1160, 1161, 1162, 1163.

Comments: nat'l security concerns; public access denied & no alternative method to gain access w/out comprising nat'l security.

Reasons: Secured Area

12 Buildings

Ft. Sam Houston

San Antonio TX 78234

Landholding Agency: Air Force

Property Number: 18201220015

Status: Unutilized

Directions: 2410, 2411, 2412, 2425, 2427, 2429, 2430, 2432, 3551, 3552, 3553, 3557

Comments: nat'l security concerns; public access denied & no alternative method to gain access w/out comprising nat'l security.

Reasons: Secured Area

Bldg. 1092

Sheppard AFB

Sheppard AFB TX 76311

Landholding Agency: Air Force

Property Number: 18201220029

Status: Unutilized

Comments: nat'l security concerns; public access denied & no alternative method to gain access w/out comprising nat'l security.

Reasons: Secured Area

Shop A/M Org. B00054

251 Fourth Ave.

Del Rio TX 78843

Landholding Agency: Air Force

Property Number: 18201310058

Status: Unutilized

Comments: located on military installation; public access denied & no alternative method w/out compromising nat'l security.

Reasons: Secured Area

13 Buildings

Sheppard AFB

Sheppard AFB TX 76311

Landholding Agency: Air Force

Property Number: 18201310059

Status: Underutilized

Directions: 527, 528, 596, 690, 691, 692, 693, 776, 790, 791, 792, 793, 794

Comments: secured area; public access denied & no alternative method w/out compromising nat'l security.

Reasons: Secured Area

Building 530

519 I Ave.

Sheppard AFB TX 76311

Landholding Agency: Air Force

Property Number: 18201320044

Status: Underutilized

Comments: public access denied & no alternative method to gain access w/out compromising nat'l sec.

Reasons: Secured Area

Building 1400

Sheppard AFB

Sheppard TX

Landholding Agency: Air Force

Property Number: 18201340030

Status: Unutilized

Comments: public access denied & no alternative method to gain access w/out compromising national security.

Reasons: Secured Area

3 Buildings

Sheppard AFB

Sheppard TX

Landholding Agency: Air Force

Property Number: 18201340031

Status: Underutilized

Directions: 1700, 2208, 2220

Comments: public access denied & no alternative method to gain access w/out compromising national security.

Reasons: Secured Area

Virginia

Bldg. 1994

Eagle Ave

Hampton VA 23665

Landholding Agency: Air Force

Property Number: 18201220024

Status: Underutilized

Comments: nat'l security concerns; public access denied & no alternative method to gain access w/out comprising nat'l security.

Reasons: Secured Area

9 Buildings

Langley AFB

Langley AFB VA 23665

Landholding Agency: Air Force

Property Number: 18201220027

Status: Underutilized

Directions: 1092, 1093, 1094, 1095, 1096, 1097,1098, 750, 51

Comments: nat'l security concerns; public access denied & no alternative method to gain access w/out comprising nat'l security.

Reasons: Secured Area

Building 37

48 Dogwood Avenue

Hampton VA 23665

Landholding Agency: Air Force

Property Number: 18201330024

Status: Underutilized

Comments: active military installation; public access denied & no alternative method to gain access w/out compromising nat'l security.

Reasons: Secured Area

Building 297

Sweeney Blvd.

Hampton VA 23665

Landholding Agency: Air Force

Property Number: 18201330027

Status: Excess

Comments: public access denied & no alternative method to gain access w/out compromising nat'l security.

Reasons: Secured Area

Washington

LK WEN RS TRLR #2

(0151.005511) 07672 00

Leavenworth WA 98826

Landholding Agency: Agriculture

Property Number: 15201410008

Status: Unutilized

Comments: documented deficiencies: extensive damage due to a tree falling into property and partially collapsing the structure.

Reasons: Extensive deterioration

Wyoming

3 Buildings

FE Warren AF

Cheyenne WY 82005

Landholding Agency: Air Force

Property Number: 18201240020

Status: Unutilized

Directions: 1166,2277,835

Comments: restricted area; public access denied & no alternative method to gain access w/out compromising nat'l security.

Reasons: Secured Area

Land

Alaska

12.28 Acres

Joint Base Elmendorf

Richardson

JBER AK 99505

Landholding Agency: Air Force

Property Number: 18201410016

Status: Underutilized

Comments: 100% of property located w/in an airport runway clear zone.

Reasons: Within airport runway clear zone.

46 Acres

Joint Base Elmendorf

Richardson

JBER-Elmendorf AK 99506

Landholding Agency: Air Force

Property Number: 18201410017

Status: Underutilized

Comments: 100% of property located w/in an airport runway clear zone.

Reasons: Within airport runway clear zone.

Florida

8 Buildings

null

Tyndall AFB FL 32403

Landholding Agency: Air Force

Property Number: 18201310011

Status: Underutilized

Directions: 205, 207, 214, 748, 1277, 1279, 1280, 1476

Comments: restricted military installation; public access denied & no alternative method to gain access w/out compromising nat'l security.

Reasons: Secured Area

Massachusetts

Parking Lot

Hanscom AFB

Hanscom MA 01731

Landholding Agency: Air Force

Property Number: 18201410004

Status: Underutilized

Comments: public access denied and no alternative method to gain access w/out compromising national security.

Reasons: Secured Area

New Jersey

7.0 Acres land for training

Rounds & Lansdowne Roads

JBMDL NJ 08733

Landholding Agency: Air Force

Property Number: 18201320023

Status: Excess

Comments: public access denied & no alternative method to gain access/out compromising nat'l sec.

Reasons: Secured Area

[FR Doc. 2014-06052 Filed 3-20-14; 8:45 am]

BILLING CODE 4210-67-P